DEPARTMENT OF ENERGY

Energy Information Administration

Agency Information Collection Extension With Changes

AGENCY: U.S. Energy Information Administration (EIA), Department of Energy.

ACTION: Agency Information Collection Activities: Information Collection Extension with Changes; Notice and Request for Comments.

SUMMARY: EIA, pursuant to the Paperwork Reduction Act of 1995, intends to extend for three years with the Office of Management and Budget (OMB), the Form EIA-111, Quarterly Electricity Imports and Exports Report. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before April 6, 2015. If you anticipate difficulty in submitting comments within that period, contact the person listed in ADDRESSES as soon as possible.

ADDRESSES: Written comments may be sent to William Booth by email at William.booth@eia.gov.

FOR FURTHER INFORMATION CONTACT: Requests for additional information or copies of the information collection instrument and instructions should be directed to William Booth at William.booth@eia.gov. The draft form and instructions are available at http://www.eia.gov/survey/changes/electricity/.

SUPPLEMENTARY INFORMATION: This information collection request contains:

(1) OMB No.: 1905-0208;

(2) Information Collection Request Title: Quarterly Electricity Imports and Exports Report;

(3) Type of Request: Extension, with changes, of a currently approved collection;

(4) Purpose: Form EIA-111 collects U. S. electricity import and export data. The data are used to get an accurate measure of the flow of electricity into and out of the United States. The import and export data are reported by U.S. purchasers, sellers and transmitters of wholesale electricity, including persons authorized by Order to export electric energy from the United States to foreign countries, persons authorized by Presidential Permit to construct, operate, maintain, or connect electric power transmission lines that cross the U.S. international border, and U.S. Balancing Authorities that are directly interconnected with foreign Balancing Authorities. Such entities are to report monthly flows of electric energy received or delivered across the border, the cost associated with the transactions, and actual and implemented interchange. The data collected on this form may appear in various EIA publications.

(4a) Proposed Changes to Information Collection: The data element “Transfer Facility's Presidential Permit numbers” is changed to “Transmission Provider/Transfer Facility(ies)” and the section for reporting Actual Interchange is expanded to collect monthly metered cross border flow over Presidential Permit holders facilities that do not involve interchange.

(5) Annual Estimated Number of Respondents: 158;

(6) Annual Estimated Number of Total Responses: 632;

(7) Annual Estimated Number of Burden Hours: 948;

(8) Annual Estimated Reporting and Recordkeeping Cost Burden: EIA estimates that there are no additional costs to respondents associated with the surveys other than the costs associated with the burden hours.

Statutory Authority: Section 13(b) of the Federal Energy Administration Act of 1974, Pub L. 93-275, codified at 15 U.S.C. 772(b).

Issued in Washington, DC, on January 29, 2015.
Nanda Srinivasan,
Director, Office of Survey Development and Statistical Integration, U. S. Energy Information Administration.

[FR Doc. 2015-02158 Filed 2-3-15; 8:45 am]

BILLING CODE 6450-01-P